NUCLEAR REGULATORY COMMISSION

[Docket No. 52-047; NRC-2016-0119]

Early Site Permit Application: Tennessee Valley Authority; Clinch River Nuclear Site

AGENCY: Nuclear Regulatory Commission.

ACTION: Draft environmental impact statement; public meetings and request for comment.

SUMMARY: The U.S Nuclear Regulatory Commission (NRC) and the U.S. Army Corps of Engineers (USACE), Nashville District, are issuing for public comment NUREG-2226, “Environmental Impact Statement for the Early Site Permit (ESP) for the Clinch River Nuclear (CRN) Site: Draft Report for Comment.” The site is located in Roane County, Tennessee, along the Clinch River, approximately 25 miles west-southwest of downtown Knoxville, Tennessee. The purposes of this notice are to inform the public that the NRC staff has issued a draft environmental impact statement (DEIS) as part of the review of the application for the ESP and to provide the public with an opportunity to comment on the DEIS process as defined in the regulations.

DATES: Submit comments by July 10, 2018. Comments received after this date will be considered if it is practical to do so, but the Commission is able to ensure consideration only for comments received on or before this date. The DEIS public meetings will be held on June 5, 2018.

ADDRESSES: In addition to the public meetings for comment (described below), you may submit comment by any of the following methods:

• Federal Rulemaking website: Go to http://www.regulations.gov and search for Docket ID NRC-2016-0119. Address questions about NRC dockets to Jennifer Borges; telephone: 301-287-9127; email: Jennifer.Borges@nrc.gov. For technical questions, contact the individuals listed in the FOR FURTHER INFORMATION CONTACT section of this document.

• NRC Project Email Address: Electronic comments may be sent by email to the NRC at ClinchRiverESPEIS@nrc.gov.

• Mail comments to: May Ma, Office of Administration, Mail Stop: TWFN-07-A60, U.S. Nuclear Regulatory Commission, Washington, DC 20555-0001.

For additional direction on accessing information and submitting comments, see “Obtaining Information and Submitting Comments” in the SUPPLEMENTARY INFORMATION section of this document.

FOR FURTHER INFORMATION CONTACT: Patricia Vokoun, telephone: 301-415-3470, email: Patricia.Vokoun@nrc.gov; or Tamsen Dozier, telephone: 301-415-2272, email: Tamsen.Dozier@nrc.gov. Both are staff members of the Office of New Reactors, U.S. Nuclear Regulatory Commission, Washington, DC 20555-0001.

SUPPLEMENTARY INFORMATION:

I. Obtaining Information and Submitting Comments

A. Obtaining Information

Please refer to Docket ID NRC-2016-0119 when contacting the NRC about the availability of information regarding this document. You may obtain publicly-available information related to this action by the following methods:

• Federal Rulemaking website: Go to http://www.regulations.gov and search for Docket ID NRC-2016-0119.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in the SUPPLEMENTARY INFORMATION section. In addition, for the convenience of the reader, the ADAMS accession numbers are provided in a table in the section of this notice entitled Availability of Documents.

• NRC's PDR: You may examine and purchase copies of public documents at the NRC's PDR, Room O1-F21, One White Flint North, 11555 Rockville Pike, Rockville, Maryland 20852.

• Project website: Go to https://www.nrc.gov/reactors/new-reactors/esp/clinch-river.html.

• Local Libraries: You may examine copies of public documents at the Oak Ridge Public Library, 1401 Oak Ridge Turnpike, Oak Ridge, Tennessee, and the Kingston Public Library, 1004 Bradford Way, Kingston, Tennessee.

B. Submitting Comments

Please include Docket ID NRC-2016-0119 in your comment submission. The NRC cautions you not to include identifying or contact information that you do not want to be publicly disclosed in your comment submission. The NRC will post all comment submissions received through the Federal Rulemaking website (http://www.regulations.gov) in the Regulations.gov docket (NRC-2016-0119), and will also enter the comment submissions into ADAMS. Comments submitted through the NRC project email address will be processed into ADAMS, and all comments will be compiled and addressed in Appendix E of the final EIS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

II. Introduction

Pursuant to part 52 of title 10 of the Code of Federal Regulations (10 CFR), on May 12, 2016, Tennessee Valley Authority (TVA) submitted an application for an ESP for the Clinch River Nuclear Site, located on approximately 935 acres in Roane County, Tennessee, along the Clinch River, approximately 25 miles west-southwest of downtown Knoxville, Tennessee.

III. Further Information

A notice of intent to prepare an environmental impact statement (EIS) and to conduct scoping process was published in the Federal Register on April 13, 2017 (82 FR 17885). A notice of receipt and availability of the application, including the environmental report (ER), was published in the Federal Register on June 23, 2016 (81 FR 40929). A notice of acceptance for docketing of the application for the ESP was published in the Federal Register on January 12, 2017 (82 FR 3812). A notice of hearing and opportunity to petition for leave to intervene in the proceeding on the application was published in the Federal Register on April 4, 2017 (82 FR 16436).

The purposes of this notice are to inform the public that the NRC staff has issued a DEIS as part of the review of the application for the ESP and to provide the public with an opportunity to provide comments. As set forth in 10 CFR 51.20(b)(1), issuance of an ESP under 10 CFR part 52 is an action that requires an EIS. This notice is being published in accordance with the National Environmental Policy Act of 1969, as amended (NEPA) and the NRC's regulations in 10 CFR part 51.

In addition, as outlined in 36 CFR 800.8(c), “Coordination with the National Environmental Policy Act,” the NRC staff has been coordinating compliance with Section 106 of the National Historic Preservation Act (NHPA) with steps taken to meet the requirements of the NEPA. Pursuant to 36 CFR 800.8(c), the NRC staff used the process and documentation for the preparation of the EIS on the proposed action to comply with Section 106 of the NHPA in lieu of the procedures set forth on 36 CFR 800.3 through 800.6.

In accordance with 10 CFR 51.45 and 51.50, TVA submitted the environmental ER as part of the application; the ER is available in ADAMS under Accession No. ML16144A145.

III. Availability of Documents

The DEIS is available in ADAMS under Accession Nos. ML18100A220 and ML18100A223. The following table indicates how the key reference documents related to the application and the NRC staff's review processes may be accessed.

Document title | ADAMS accession No. or website
10 CFR part 51, “Environmental Protection Regulations for Domestic Licensing and Related Regulatory Function” | https://www.nrc.gov/reading-rm/doc-collections/cfr/part051/.
10 CFR part 52, “Licenses, Certifications, and Approvals for Nuclear Power Plants” | https://www.nrc.gov/reading-rm/doc-collections/cfr/part052/.
10 CFR part 100, “Reactor Site Criteria” | https://www.nrc.gov/reading-rm/doc-collections/cfr/part100/.
NUREG-1555, “Standard Review Plans for Environmental Reviews for Nuclear Power Plants” | https://www.nrc.gov/reading-rm/doc-collections/nuregs/staff/sr1555/.
NUREG/BR-0298, “Brochure on Nuclear Power Plant Licensing Process” | https://www.nrc.gov/reading-rm/doc-collections/nuregs/brochures/br0298/.
Regulatory Guide 4.2, “Preparation of Environmental Reports for Nuclear Power Stations (Supplement 1)” | ML13067A354.
Regulatory Guide 4.7, “General Site Suitability Criteria for Nuclear Power Stations” | ML12188A053.
Fact Sheet on Nuclear Power Plant Licensing Process | https://www.nrc.gov/reading-rm/doc-collections/fact-sheets/licensing-process-fs.html.
Regulatory Guide 1.206, “Combined License Applications for Nuclear Power Plants” | https://www.nrc.gov/reading-rm/doc-collections/reg-guides/power-reactors/rg/01-206/.
Nuclear Regulatory Commission Policy Statement on the Treatment of Environmental Justice Matters in NRC Regulatory and Licensing Actions | https://www.gpo.gov/fdsys/pkg/FR-2004-08-24/pdf/04-19305.pdf.

The NRC may post materials related to this document, including public comments, on the Federal Rulemaking website at http://www.regulations.gov under Docket ID NRC-2016-0119. The Federal Rulemaking website allows you to receive alerts when changes or additions occur in a docket folder. To subscribe: (1) Navigate to the docket folder (NRC-2016-0119); (2) click the “Sign up for Email Alerts” link; and (3) enter your email address and select how frequently you would like to receive emails (daily, weekly, or monthly).

IV. Public Meetings for Comment

The NRC and the USACE staff will hold two identical public meetings to present a brief overview of the DEIS and to accept public comments on the document. The meetings will be held at Noah's Event Venue, 1200 Ladd Landing Blvd., Kingston, Tennessee, on June 5, 2018. The first meeting will convene at 2:00 p.m. and will continue until approximately 4:00 p.m. The second meeting will convene at 7:00 p.m., with a repetition of the overview portions of the first meeting, and will continue until approximately 9:00 p.m. The meetings will be transcribed and will include the following:

(1) A brief presentation of the contents of the DEIS; and

(2) the opportunity for interested government agencies, organizations, and individuals to submit comments on the draft report.

Additionally, the NRC staff will host informal discussions for 1 hour prior to the start of each public meeting. No formal comments will be accepted during the informal discussions. To be considered, comments must be provided either at a transcribed public meeting or in writing, as discussed below.

Persons may register to attend or present oral comments at the meeting on the DEIS by contacting Ms. Patricia Vokoun by telephone at 1-800-368-5642, extension 3470, or by email to the NRC at ClinchRiverESPEIS@nrc.gov no later than May 30, 2018. Members of the public may also register to speak at the meeting prior to the start of the presentation. Individual oral comments may be limited by the time available, depending on the number of persons who register. Members of the public who have not registered may also have an opportunity to speak, if time permits. Public comments will be considered in the preparation of the final EIS. If special equipment or accommodations are needed to attend or present information at the public meeting, the need should be brought to Ms. Vokoun's attention no later than May 29, 2018, so that the NRC staff can determine whether the request can be accommodated.

After receipt and consideration of comments on the DEIS, the NRC will prepare and issue the final EIS, which will also be available to the public.

Dated at Rockville, Maryland, this 20th day of April 2018.
For the Nuclear Regulatory Commission.
Anna H. Bradford,
Deputy Director, Division of New Reactor Licensing, Office of New Reactors.

[FR Doc. 2018-08714 Filed 4-25-18; 8:45 am]

BILLING CODE 7590-01-P